DEPARTMENT OF THE TREASURY

Comptroller of the Currency

12 CFR Part 5

Rules, Policies, and Procedures for Corporate Activities

CFR Correction

In Title 12 of the Code of Federal Regulations, parts 1 to 199, revised as of January 1, 2014, on page 310, in § 5.34, the word “and” is added to the end of paragraph (e)(5)(vi)(C).

[FR Doc. 2014-15108 Filed 6-26-14; 8:45 am]

BILLING CODE 1505-01-D